FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 011868N.

Name: Seagate Container Line, Inc.

Address: 911 Western Avenue, Suite 304, Seattle, WA 98104.

Date Revoked: February 8, 2005.

Reason: Failed to maintain a valid bond.

License Number: 016528F.

Name: Uni International, America Corp.

Address: 880 Mondalay Avenue, #C 1211, Clearwater, FL 33767.

Date Revoked: February 5, 2005.

Reason: Failed to maintain a valid bond.

Sandra L. Kusumoto,
Director, Bureau of Certification and Licensing.

[FR Doc. 05-4631 Filed 3-8-05; 8:45 am]

BILLING CODE 6730-01-P